DEPARTMENT OF THE INTERIOR

National Park Service

Notice of Availability of Draft Director's Order Concerning National Park Service Policies and Procedures for Resources Damage Assessment and Restoration

AGENCY: National Park Service, Interior.

ACTION: Notice of availability.

SUMMARY: The National Park Service (NPS) has prepared a Director's Order setting forth its policies and procedures governing the conduct of resource damage assessment and restoration activities under the civil damage provisions of the Park System Resources Protection Act (PSRPA), 16 U.S.C. 19jj, and other related laws. The Director's Order has a companion Handbook that specifies in more detail, implementing procedures. When adopted, the policies and procedures will apply to all units of the national park system.

DATES: Written comments will be accepted on or before 30 days from the date of publication in the Federal Register.

ADDRESSES: Draft Director's Order #14 is available on the Internet at http://www.nps.gov/refdesk/DOrders/index.htm. The Draft Damage Assessment Handbook is available on the Internet at http://www.nature.nps.gov/do14handbook. Requests for copies and written comments should be sent to Daniel Hamson, Chief, Environmental Response, Damage Assessment and Restoration Branch, Environmental Quality Division, 1849 C Street, NW., Washington, DC 20240, or to his Internet address: daniel_hamson@nps.gov.

FOR FURTHER INFORMATION CONTACT: Daniel Hamson at (202) 208-7504.

SUPPLEMENTARY INFORMATION: The National Park Service (NPS) is requesting comments from agencies and the public concerning new policy and internal procedural requirements for implementing the National Park System Resources Protection Act (PSRPA), and the civil natural resource damage provisions of the Oil Pollution Act (OPA), the Comprehensive Environmental Response, Compensation and Liability Act (CERCLA), and the National Pollution Control Act or Clean Water Act (CWA), as amended. There are no previous policies or procedures in place governing the NPS activities under the PSRPA. Once final, these policies and procedures would apply to the activities of the National Park Service in administering units of the National Park System. The policies available for review consist of a draft Director's Order which broadly describes the authorizations, delegations, and responsibilities for the development of the policies and conducting actions under these statutes, and a draft procedures manual or handbook that describes how the NPS will carry out its responsibilities under PSRPA and related laws.

Dated: June 25, 2002.
Michael Soukup,
Associate Director, Natural Resource Stewardship and Science.

[FR Doc. 02-22373 Filed 8-30-02; 8:45 am]

BILLING CODE 4310-70-P